DEPARTMENT OF COMMERCE

Census Bureau

Agency Information Collection Activities; Submission to the Office of Management and Budget (OMB) for Review and Approval; Comment Request; Management and Organizational Practices Survey—Hospitals

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 19, 2020 during a 60-day comment period. This notice allows for an additional 30 days for public comments.

Agency: U.S. Census Bureau.

Title: Management and Organizational Practices Survey-Hospitals.

OMB Control Number: 0607-XXXX.

Form Number(s): MOPS-HP.

Type of Request: Regular submission, New Information Collection Request.

Number of Respondents: 3,200.

Average Hours per Response: 45 minutes.

Burden Hours: 2,400.

Needs and Uses: The Census Bureau proposes conducting the Management and Organizational Practices Survey-Hospitals (MOPS-HP) in order to provide critical information on the health sector to our many stakeholders in support of our mission to serve as “the leading source of quality data about the nation's people and economy.” The MOPS-HP will collect information on the use of structured management practices from Chief Nursing Officers (CNOs) at approximately 3,200 hospitals with the goal of producing four publicly available indices that measure key characteristics of these structured management practices. The proposed MOPS-HP will be collected for reference years 2020 and 2019. Content includes performance monitoring, goals, staff management, the use of standardized clinical protocols, and medical record documentation. Some questions are adapted from the Management and Organizational Practices Survey (MOPS) (OMB Approval Number 0607-0963), conducted in the manufacturing sector, allowing for inter-sectoral comparisons.

The MOPS-HP will provide a deeper understanding of the business processes which impact an increasingly important sector of the economy; total national health expenditures represented almost 18 percent of U.S. gross domestic product in 2017 (National Center for Health Statistics). The MOPS-HP will provide a nationally representative sample, enabling stakeholders to understand the role of structured management practices in financial and clinical outcomes in U.S. hospitals. This understanding is of increasing importance with the COVID-19 pandemic, where the overwhelming number of hospitalizations at varying points has stretched staff and resources to capacity. In much the same way that the MOPS allowed for the measurement of the importance of these structured management practices for productivity and growth in the manufacturing sector, the MOPS-HP will inform our understanding of hospitals. Questions developed and tested for the MOPS-HP instrument are adapted from the 2015 MOPS and the 2009 World Management Survey's (WMS) healthcare instrument. The Census Bureau conducted the MOPS in 2010 and 2015 with approximately 35,000 manufacturing plants to measure management practices. These data show that management practices are strongly correlated with plant profitability and productivity. The WMS has collected data on 20 basic management practices for approximately 2,000 hospitals in nine countries, including 307 in the U.S. Interviewers ask open-ended questions and rate responses to indicate whether the management practices are more or less structured. Data from the WMS show large variations in these practices and their systematic relationship with clinical outcomes such as mortality rates from heart attacks.

The COVID-19 pandemic highlights the relevance of hospital management practices, especially as they relate to hospitals' ability to respond to shocks to their organization and the health care system. In light of this, the Census Bureau has modified the survey proposal to collect data for reference years 2020 and 2019. This change seeks to directly measure management practices and protocols before and during the pandemic to gain a better understanding of how hospitals have had to adjust and pivot operations during this public health emergency. The Census Bureau has also included two questions in the MOPS-HP content to help improve measurement of hospital preparedness. These questions will provide information on two elements of responsiveness, hospitals' coordinated deployment of frontline clinical workers and hospitals' ability to quickly respond to needed changes in standardized clinical protocols. In an effort to limit respondent burden while adding this content, adjustments were made to keep the total number of questions and estimated burden per response unchanged.

The MOPS-HP will be a supplement to the Service Annual Survey (SAS) and will utilize a subset of its mail-out sample. Its sample will consist of hospital locations for enterprises classified under General Medical and Surgical Hospitals (NAICS 6221) and sampled in the SAS. The survey will be mailed separately from the SAS and collected electronically through the Census Bureau's Centurion online reporting system. Respondents will be sent an initial letter with instructions detailing how to log into the instrument and report their information. These letters will be addressed to the location's Chief Nursing Officer (CNO). Collection is scheduled to begin in April 2021 and end in October 2021. Due to the nature of the respondents, this schedule may be impacted by the effects of COVID-19. The Census Bureau is monitoring the ongoing situation and will adjust dates as necessary as the collection start date approaches as we do not want to add burden to an overly burdened sector of the economy.

The Census Bureau will produce a publicly available press release to describe the survey and discuss the results. The Census Bureau will also write at least one research paper describing the MOPS-HP collection, processing, and data findings. Conditional on quality, the Census Bureau will construct and publish in a research paper indices of management practices, which can be used in tabulations and empirical analyses for potential use by the public, clinicians, hospitals, and researchers. These indices as well as microdata will be available to approved Federal Statistical Research Data Centers (FSRDC) users and will provide benefits to other Federal agencies and the public.

Examining factors that impact clinical and financial outcomes is essential to understanding the health care industry, which makes up a large portion of the U.S. economy. The MOPS-HP will provide unique national-level estimates on management and organizational practices in hospitals that could improve our understanding of the hospital industry:

• The Centers for Medicare and Medicaid Services' Hospital Compare data or the Hospital Consumer Assessment of Healthcare Providers and Systems (HCAHPS) survey could be used in conjunction with the MOPS-HP to determine whether hospitals with more structured management practices have higher overall patient ratings and are more likely to be recommended.

• The National Hospital Care Survey from the National Center for Health Statistics could be used in combination with the MOPS-HP's index to evaluate how management practices relate to hospital utilization and patient care.

• Data from the Surveys on Patient Safety Culture-Hospital Survey from the Agency for Healthcare Research and Quality could be used to study whether hospitals with more structured management practices have fewer patient safety events.

• Policymakers could use the data to understand how management and organizational practices are evolving in hospitals, which can help understand changes in the industry. The Census Bureau plans to use the data collected from the MOPS-HP's questions on medical record documentation to construct an index measuring the management of multiple objectives—clinical and financial—that would inform policymakers concerned with both aspects of hospital performance. By examining any links between the survey's measures of management practices and clinical outcomes, the survey may help to inform policymakers and to encourage practices that are beneficial to patients and our population as a whole.

• Hospital administrators could utilize planned public indices to benchmark their own practices, and subsequently make decisions or set policies to improve their financial and clinical outcomes.

• The MOPS-HP data could be used in combination with the Census Bureau's collected data on hospital finances, including revenues and expenses, to improve our understanding on how management practices may impact financial performance.

• In a letter of support, the Bureau of Economic Analysis (BEA) expressed their interest in the MOPS-HP and noted that it will help aid their mission to promote “ ‘. . . a better understanding of the U.S. economy . . .' ” The letter states that the MOPS-HP will “fill a critical gap in our current understanding of how management systems affect patient health outcomes and healthcare expenditures.”

Affected Public: Business or other for-profit organizations; Not-for-profit institutions.

Frequency: One time.

Respondent's Obligation: Mandatory.

Legal Authority: The Census Bureau will conduct the MOPS-HP on a mandatory basis under authority of Title 13, United States Code, Sections 131, 182, 224, and 225.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-04190 Filed 2-26-21; 8:45 am]

BILLING CODE 3510-07-P